DEPARTMENT OF THE INTERIOR

Bureau of Land Management

[LLORW00000 L102000000.ML0000 13XL1109AF.HAG13-0139]

Notice of Public Meeting, Eastern Washington Resource Advisory Council

AGENCY: Bureau of Land Management, Interior.

ACTION: Notice of public meeting cancellation.

SUMMARY: The Bureau of Land Management (BLM) published a document in the Federal Register of February 28, 2013, regarding a meeting of the Eastern Washington Resource Advisory Council. The meeting on March 21, 2013, has been cancelled because of budget constraints due to the sequester.

DATES: March 21, 2013

SUPPLEMENTARY INFORMATION: The cancelled meeting was scheduled for Thursday March 21, 2013, at the City Council Chambers of the City of Moses Lake, 401 S. Balsam, Moses Lake, Washington 98837.

Before including your address, phone number, email address, or other personal identifying information in your comments, please be aware that your entire comment—including your personal identifying information—may be made publicly available at any time. While you can ask us in your comment to withhold your personal identifying information from public review, we cannot guarantee that we will be able to do so.

FOR FURTHER INFORMATION CONTACT: BLM Spokane District, 1103 N. Fancher Rd., Spokane Valley, Washington, 99212, or call (509) 536-1200. Persons who use a telecommunications device for the deaf (TDD) may call the Federal Information Relay Service (FIRS) at 1 (800) 877-8339 to contact the above individual during normal business hours. The FIRS is available 24 hours a day, 7 days a week, to leave a message or question with the above individual. You will receive a reply during normal business hours.

Daniel C. Picard,
Spokane District Manager.

[FR Doc. 2013-06376 Filed 3-19-13; 8:45 am]

BILLING CODE 4310-33-P